DEPARTMENT OF TRANSPORTATION

Research and Special Programs Administration

49 CFR Parts 171, 172, 173, 175, and 178

[Docket No. RSPA-04-17664 (HM-224B)]

RIN 2137-AD33

Hazardous Materials: Transportation of Compressed Oxygen, Other Oxidizing Gases and Chemical Oxygen Generators on Aircraft

AGENCY: Research and Special Programs Administration (RSPA), Department of Transportation (DOT).

ACTION: Notice of proposed rulemaking (NPRM); extension of comment period.

SUMMARY: RSPA is extending until December 13, 2004, the period for interested persons to submit comments on the May 6, 2004 notice of proposed rulemaking in response to a request by the Air Transport Association (ATA). In the May 6, 2004 NPRM, we proposed to amend the Hazardous Materials Regulations (HMR) to require that cylinders of compressed oxygen and packages of chemical oxygen generators be placed in an outer packaging that meets certain flame penetration and thermal resistance requirements when transported aboard an aircraft. This proposal was developed based on recommendations from the Federal Aviation Administration (FAA). RSPA is also proposing to: Raise the pressure relief device setting limit on cylinders of compressed oxygen transported aboard aircraft; limit the types of cylinders authorized to transport compressed oxygen aboard aircraft; prohibit the transportation of all oxidizing gases, other than compressed oxygen, aboard cargo and passenger aircraft; and convert most of the provisions of an oxygen generator approval into the HMR. These proposals would increase the level of safety associated with transportation of these materials aboard aircraft.

DATES: Submit comments by December 13, 2004. To the extent possible, we will consider comments received after this date.

ADDRESSES: You may submit comments by any of the following methods:

• Web site: http://dms.dot.gov. Follow the instructions for submitting comments on the DOT electronic docket site.

• Fax: 1-202-493-2251.

• Web site: http://regulations.gov. Follow instructions for submitting comments.

• Mail: Docket Management System; U.S. Department of Transportation, 400 Seventh Street, SW., Nassif Building, Room PL-402, Washington, DC 20590-001.

• Hand Delivery: To the Docket Management System; Room PL-401 on the plaza level of the Nassif Building, 400 Seventh Street, SW., Washington, DC between 9 a.m. and 5 p.m., Monday through Friday, except Federal holidays.

Instructions: You must include the agency name and docket number RSPA-04-17664 (HM-224B) or the Regulatory Identification Number (RIN 2137-AD33) for this notice at the beginning of your comment. For detailed instructions on submitting comments and additional information on the rulemaking process, see the Public Participation section of this document. Note that all comments received will be posted without change to http://dms.dot.gov including any personal information provided. Please see the Privacy Act section of this document.

FOR FURTHER INFORMATION CONTACT: John A. Gale, Office of Hazardous Materials Standards, telephone (202) 366-8553, Research and Special Programs Administration, U.S. Department of Transportation, 400 Seventh Street, SW., Washington, DC 20590-0001 or David Catey, Office of Flight Standards, (202) 267-3732, Federal Aviation Administration, U.S. Department of Transportation, 800 Independence Avenue, SW., Washington, DC 20591.

SUPPLEMENTARY INFORMATION:

I. Background

On May 6, 2004, RSPA published a notice of proposed rulemaking (69 FR 25470) to amend the Hazardous Materials Regulations to require that cylinders of compressed oxygen and packages of chemical oxygen generators be placed in an outer packaging that meets certain flame penetration and thermal resistance requirements when transported aboard an aircraft. This proposal was developed based on recommendations from the Federal Aviation Administration (FAA). RSPA is also proposing to: Raise the pressure relief device setting limit on cylinders of compressed oxygen transported aboard aircraft; limit the types of cylinders authorized to transport compressed oxygen aboard aircraft; prohibit the transportation of all oxidizing gases, other than compressed oxygen, aboard cargo and passenger aircraft; and convert most of the provisions of an oxygen generator approval into the HMR (49 CFR parts 171-180). These proposals would increase the level of safety associated with transportation of these materials aboard aircraft. In the NPRM, RSPA requested comments on 15 specific questions pertaining to the proposed amendments in order to gather feedback from affected members of the regulated community.

The HMR govern the transportation of hazardous materials in commerce in all modes of transportation, including aircraft (49 CFR 171.1(a)(1)). Parts 172 and 173 of the HMR include requirements for classification and packaging of hazardous materials, hazard communication, and training of employees who perform functions subject to the requirements of the HMR. Part 175 contains requirements applicable to aircraft operators transporting hazardous materials aboard an aircraft, and authorizes passengers and crew members to carry hazardous materials on board an aircraft under certain conditions. Part 178 contains additional requirements applicable to the specifications for packagings in all modes.

On June 22, 2004, ATA requested an extension of the comment period (closing August 13, 2004) until December 13, 2004. ATA stated that its member air carriers need additional time to prepare and develop comments to RSPA's particular questions. ATA stated that its members have determined the need to consult other sources before preparing comments, including maintenance and engineering advice. ATA stated that carriers have little reliable information about the availability or cost of aspects of the NPRM and will need to research the market to obtain this information. ATA stated its members need additional time to collect information germane to their responses and to provide inclusive industry comments on the impact of the NPRM on safety and carrier operations. RSPA agrees that extending the comment period on this rulemaking is in the public interest because it will assure a more thorough consideration of the issues by the affected parties. Therefore we are extending the comment period to December 13, 2004.

Issued in Washington, DC on July 29, 2004, under the authority delegated in 49 CFR part 106.
Robert A. McGuire,
Associate Administrator for Hazardous Materials Safety.

[FR Doc. 04-17747 Filed 8-3-04; 8:45 am]

BILLING CODE 4910-60-P